NUCLEAR REGULATORY COMMISSION

[Docket No. NRC-2010-0332]

Agency Information Collection Activities: Proposed Collection; Comment Request

AGENCY: Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. chapter 35).

Information pertaining to the requirement to be submitted:

1. The title of the information collection: DOE/NRC Form 740M, “Concise Note” and NUREG/BR-0006, Revision 7, “Instructions for Completing Nuclear Material Transaction Reports, (DOE/NRC Forms 741 and 740M).”

2. Current OMB approval number: 3150-0057.

3. How often the collection is required: DOE/NRC Form 740M is requested as necessary to inform the U.S. or the International Atomic Energy Agency (IAEA) of any qualifying statement or exception to any of the data contained in other reporting forms required under the US/IAEA Safeguards Agreement.

4. Who is required or asked to report: Persons licensed to possess specified quantities of special nuclear material or source material, and licensees of facilities on the U.S. eligible list who have been notified in writing by the NRC that they are subject to part 75.

5. The number of annual respondents: 15.

6. The number of hours needed annually to complete the requirement or request: 113 hours.

7. Abstract: Licensees affected by part 75 and related sections of parts 40, 50, 70, and 150 are required to submit DOE/NRC Form 740M to inform the U.S. or the IAEA of any qualifying statement or exception to any of the data contained in any of the other reporting forms required under the US/IAEA Safeguards Agreement. The use of Form 740M enables the NRC to collect, retrieve, and analyze, and submit the data to IAEA to fulfill its reporting responsibilities.

Submit, by January 14, 2011, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2010-0332. You may submit your comments by any of the following methods. Electronic comments: Go to http://www.regulations.gov and search for Docket No. NRC-2010-0332. Mail comments to NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6258, or by e-mail to INFOCOLLECTS.Resource@NRC.GOV.

Dated at Rockville, Maryland, this 5th day of November 2010.
For the Nuclear Regulatory Commission.
Tremaine Donnell,
NRC Clearance Officer, Office of Information Services.

[FR Doc. 2010-28636 Filed 11-12-10; 8:45 am]

BILLING CODE 7590-01-P